DEPARTMENT OF ENERGY

Federal Energy Regulatory Commission

[Project No. 12667-003]

City of Hamilton, Ohio; Notice of Availability of Environmental Assessment

April 25, 2008.

In accordance with the National Environmental Policy Act of 1969 and the Federal Energy Regulatory Commission's (Commission) regulations, 18 CFR Part 380 (Order No. 486, 52 FR 47897), the Office of Energy Projects has reviewed the application for an Original Major License for the Meldahl Hydroelectric Project.

The project would be located at the Captain Anthony Meldahl Locks and Dam and would occupy about 81 acres of federal lands administered by the Huntington District of the U.S. Army Corps of Engineers. Staff has prepared an environmental assessment (EA) for the project.

The EA contains staff's analysis of the potential environmental effects of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

Any comments should be filed within 30 days from the date of this notice and should be addressed to: Kimberly D. Bose, Secretary, Federal Energy Regulatory Commission, 888 First Street, NE., Washington, DC 20426. Please affix Project No. 12667-003 to all comments. Comments may be filed electronically via the Internet in lieu of paper. The Commission strongly encourages electronic filings. See 18 CFR 385.2001(a)(1)(iii) and the instructions on the Commission's Web site (http://www.ferc.gov) under the “e-Filing” link.

For further information, please contact Peter Leitzke at 202-502-6059 or at peter.leitzke@ferc.gov.

Kimberly D. Bose,
Secretary.

[FR Doc. E8-9780 Filed 5-2-08; 8:45 am]

BILLING CODE 6717-01-P